DEPARTMENT OF COMMERCE

International Trade Administration

15 CFR Parts 301, 303

RIN 0625-AB00

[Docket No.: 131114957-3957-01]

Import Administration; Change of Agency Name for Instruments and Apparatus for Educational and Scientific Institutions

AGENCY: Import Administration, Commerce.

ACTION: Final rule; Nomenclature change.

SUMMARY: Effective October 1, 2013, the Department of Commerce (Department), through internal department organizational orders, changed the name of “Import Administration” to “Enforcement and Compliance.” The rule also sets forth a Savings Provision that preserves, under the new name, all actions taken under the name of Import Administration and provides that any references to Import Administration in any document or other communication shall be deemed to be references to Enforcement and Compliance.

DATES: This rule is effective December 2, 2013.

FOR FURTHER INFORMATION CONTACT: Robert Goodyear, Director, Office of Operations Support Enforcement & Compliance, Telephone: (202) 482-5194; Michele D. Lynch, Senior Counsel, Office of Chief Counsel for Trade Enforcement and Compliance, Telephone: (202) 482-2879.

SUPPLEMENTARY INFORMATION:

Background

This rule implements the decision by the Department, through internal Department Organizational Orders 10-3 (effective September 18, 2013) and Department Organizational Order 40-1, (effective September 19, 2013), to consolidate and reorganize certain department organizational functions and revise the name of “Import Administration” to “Enforcement and Compliance.” The revision more accurately reflects the breadth of the agency's activities with respect to the enforcement of, and compliance with, U.S. trade laws and agreements. Consistent with the consolidation and name change, this rule makes certain changes in parts 301 and 303 of title 15 of the Code of Federal Regulations. Specifically, this rule changes all references to “Import Administration” wherever they appear in parts 301 and 303 of title 15, to “Enforcement and Compliance.”

This rule shall constitute notice that all references to Import Administration in any documents, statements, or other communications, in any form or media, and whether made before, on, or after the effective date of this rule, shall be deemed to be references to Enforcement and Compliance. Any actions undertaken in the name of or on behalf of Import Administration, whether taken before, on, or after the effective date of this rule, shall be deemed to have been taken in the name of or on behalf of Enforcement and Compliance.

Rulemaking Requirements

1. This final rule has been determined to be exempt from review for purposes of Executive Order 12866.

2. This rule does not impose information collection and recordkeeping requirements. Consequently, it need not be reviewed by the Office of Management and Budget under the provisions of the Paperwork Reduction Act of 1995.

3. This rule does not contain policies with Federalism implications as this term is defined in Executive Order 13132.

4. The provisions of the Administrative Procedure Act (5 U.S.C. 553) requiring notice of proposed rulemaking, the opportunity for public participation, and a delay in effective date, are inapplicable because this rule involves a rule of agency organization, procedure, or practice. 5 U.S.C. 553(b)(B). Further, no other law requires that a notice of proposed rulemaking and an opportunity for public comment be given for this final rule. Because a notice of proposed rulemaking and an opportunity for public comment are not required to be given for this rule under 5 U.S.C. or by any other law, the analytical requirements of the Regulatory Flexibility Act (5 U.S.C. 601, et seq.) are not applicable. Accordingly, this rule is issued in final form.

List of Subjects

15 CFR Part 301

Instruments and apparatus for educational and scientific institutions.

15 CFR Part 303

Watches, Watch movements and jewelry program.

PART 301—INSTRUMENTS AND APPARATUS FOR EDUCATIONAL AND SCIENTIFIC INSTITUTIONS

1. The authority citation for part 301 continues to read as follows:

Authority: Sec. 6(c), Pub. L. 89-651, 80 Stat. 897, 899; Sec. 2402, Pub. L. 106-36, 113 Stat. 127, 168; 19 U.S.C. 1514(c)(3); and Presidential Proclamation 7011, signed on June 30, 1997.

2. In part 301, revise all references to “Import Administration” to read “Enforcement and Compliance” and all references to the “Assistant Secretary for Import Administration” to read “Assistant Secretary for Enforcement and Compliance”.

PART 303—WATCHES, WATCH MOVEMENTS AND JEWELRY PROGRAM

1. The authority citation for part 303 continues to read as follows:

Authority: Pub. L. 97-446, 96 Stat. 2331 (19 U.S.C. 1202, note); Pub. L. 103-465, 108 Stat. 4991; Pub. L. 94-241, 90 Stat. 263 (48 U.S.C. 1681, note); Pub. L. 106-36, 113 Stat. 167; Pub. L. 108-429, 118 Stat. 2582.

2. In part 303, revise all references to “Import Administration” to read “Enforcement and Compliance.”

Dated: November 22, 2013.
Paul Piquado,
Assistant Secretary for Enforcement and Compliance.

[FR Doc. 2013-28912 Filed 12-2-13; 8:45 am]

BILLING CODE P